NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 18, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-1, 3 items, 3 temporary items). Agency Web site records, including Web site management and operations records, logs, and Web content that is not unique. Some unique Web content records have been previously scheduled while others will be scheduled in the future.

2. Department of the Army, Agency-wide (N1-AU-10-9, 1 item, 1 temporary item). Master files of an electronic information system that contains information concerning evaluations of enlisted personnel. Included are job ratings as well as information concerning the service member's name, rank, and military occupational specialty.

3. Department of the Army, Agency-wide (N1-AU-10-12, 1 item, 1 temporary item). Master files of an electronic information system that contains military occupational specialty data for Army Reserve personnel.

4. Department of the Army, Agency-wide (N1-AU-10-23, 1 item, 1 temporary item). Master files of an electronic information system that contains information concerning recruitment and retention of Army Reserve personnel.

5. Department of the Army, Agency-wide (N1-AU-10-24, 1 item, 1 temporary item). Master files of an electronic information system used to track and manage cases related to correction of military records. Records include such information as name and rank of service member and contact information, as well as data concerning the case.

6. Department of the Army, Agency-wide (N1-AU-10-41, 1 item, 1 temporary item). Master files of an electronic information system used to track Army Corps of Engineers student training. Included is such information as enrollment reports, transcripts, course evaluations, class schedules, rosters, and course descriptions.

7. Department of the Army, Agency-wide (N1-AU-10-43, 1 item, 1 temporary item). Master files of an electronic information system used in connection with evaluating the effectiveness of training courses.

8. Department of the Army, Agency-wide (N1-AU-10-44, 1 item, 1 temporary item). Master files of an electronic information system used to track individual training histories. Included are student profile data, contact information, test scores, and progress reports.

9. Department of the Army, Agency-wide (N1-AU-10-45, 1 item, 1 temporary item). Master files of an electronic information system that contains information used in planning and conducting general training. Included are exercise plans and scenarios, critiques, scheduling data, and final reports.

10. Department of the Army, Agency-wide (N1-AU-10-46, 1 item, 1 temporary item). Master files of an electronic information system used to match training requirements and available resources.

11. Department of Commerce, Bureau of Industry and Security (N1-476-07-1, 16 items, 12 temporary items). Records accumulated by the Office of Exporter Services, including such records as company review files, import certifications, export control seminar files, export control program reviews, and applications for export licenses. Proposed for permanent retention are such records as licensing officer's manuals, historic special license files, and historic export administration regulations files.

12. Department of Education, Office of Management (N1-441-09-7, 2 items, 1 temporary item). Working papers relating to transfers of surplus Federal real property to states, local governments, and non-profit institutions for educational purposes. Proposed for permanent retention are case files relating to the transfers.

13. Department of Health and Human Services, Administration on Aging (N1-439-09-7, 10 items, 8 temporary items). Delegations of authority, records relating to appointments to committees, responses to reports, administrative program guidance documents, plans received from states, memorandums of understanding and interagency agreements, working papers, and other records. Proposed for permanent retention are policy records, as well as documents prepared for the approval of the Assistant Secretary for Aging.

14. Department of Health and Human Services, National Institutes of Health (N1-443-10-1, 20 items, 20 temporary items). Records relating to patenting and licensing of inventions and discoveries made by agency employees. Included are such records as employee invention reports, patent applications, license agreements, technology transfer marketing files, and related working files.

15. Department of Justice, Office of the Inspector General (N1-60-09-47, 1 item, 1 temporary item). Master files of an electronic information system used to track milestone dates and other aspects of financial and performance audits.

16. Department of Justice, Office of the Inspector General (N1-60-09-68, 1 item, 1 temporary item). Master files of an electronic information system used to track the status of open recommendations made in evaluation and inspection reports.

17. Department of Justice, Federal Bureau of Investigation (N1-65-09-30, 1 item, 1 temporary item). Copies of correspondence intercepted by the Central Intelligence Agency between 1968 and 1973 under the Hunter Project and sent to the Bureau. Policy and program records relating to the project were previously scheduled for permanent retention.

18. Department of the Treasury, Internal Revenue Service (N1-58-09-40, 37 items, 37 temporary items). Records relating to the private debt collection program, a soon to end program under which the agency utilized private debt collection agencies to collect Federal tax debts. Included are such records as case files, reports, spreadsheets, data bases, correspondence, audit records, planning documents, and customer surveys.

19. Federal Energy Regulatory Commission, Agency-wide (N1-138-10-2, 1 item, 1 temporary item). Annual reports submitted to the Department of Justice that relate to agency activities under the Freedom of Information Act.

20. Federal Energy Regulatory Commission, Agency-wide (N1-138-10-3, 1 item, 1 temporary item). Records relating to shipping rates of materials used for maintaining gas pipelines.

Dated: May 11, 2010.
Michael J. Kurtz,
Assistant Archivist for Records Services—Washington, DC.

[FR Doc. 2010-12022 Filed 5-18-10; 8:45 am]

BILLING CODE 7515-01-P